DEPARTMENT OF COMMERCE

National Oceanic and Atmospheric Administration

50 CFR Part 660

[I.D. 112603A]

Pelagic Fisheries Managed Under the Fishery Management Plan, for the Pelagic Fisheries of the Western Pacific Region

AGENCY: National Marine Fisheries Service (NMFS), National Oceanic and Atmospheric Administration (NOAA), Commerce.

ACTION: Supplemental Notice of Intent (NOI) to prepare a Supplemental Environmental Impact Statement (SEIS); Notice of compressed schedule under alternative procedures approved by the Council on Environmental Quality (CEQ).

SUMMARY: In an NOI published on October 17, 2003, the Western Pacific Fishery Management Council (Council) and NMFS announced their intent to prepare an SEIS in accordance with the National Environmental Policy Act of 1969 (NEPA) on the Federal management of pelagic fishery resources in the Western Pacific Region. The Council and NMFS supplement that NOI and now announce their intent to phase, upon completion of the public scoping period identified in the October 17, 2003 NOI, the SEIS and associated NEPA processes into two separate SEISs and two separate NEPA processes. The Council and NMFS also announce their intent to apply alternative procedures approved by the CEQ that will allow for expedited completion of one of the SEISs, specifically, on proposed management measures for the Hawaii-based longline fishery and it's potential impact on protected sea turtle populations. The remaining management issues identified in the public scoping process will be addressed in a separate SEIS made available for comment and review under normally applicable NEPA procedures. Notwithstanding these new intents, the public scoping process and schedule identified in the October 17, 2003, NOI, including the times and locations of public scoping meetings, remain in effect and apply to both NEPA processes identified above.

DATES: Written comments on the issues, priorities, range of alternatives, and impacts that should be discussed in either of the two SEISs must be received by December 15, 2003. See SUPPLEMENTARY INFORMATION for discussion on timing and dates associated with the alternative procedures. See the October 17, 2003 NOI for specific dates, times, and locations of the public scoping meetings.

ADDRESSES: Send written comments to Kitty Simonds, Executive Director, WPFMC, 1164 Bishop St. Suite 1400, Honolulu, HI 96813 or to Samuel Pooley, Acting Regional Administrator, NMFS, Pacific Islands Regional Office, 1601 Kapiolani Blvd., Suite 1110, Honolulu HI 96814. Comments may also be sent via facsimile (fax) to the Council at (808) 522-8228 or to the Pacific Islands Regional Office at (808) 973-2941. Comments must be received by December 15, 2003.

FOR FURTHER INFORMATION CONTACT: Kitty Simonds, Executive Director, WPFMC, (808) 522-8220 or Samuel Pooley, Acting Regional Administrator, NMFS, (808) 973-2937.

SUPPLEMENTARY INFORMATION: Under the Magnuson-Stevens Fishery Conservation and Management Act (16 U.S.C. 1801 et seq.), the United States has exclusive management authority over all living marine resources found within the Exclusive Economic Zone (EEZ). The management of these marine resources found within the EEZ with the exception of sea birds and some marine mammals, is vested in the Secretary of Commerce (Secretary). Eight Regional Fishery Management Councils prepare fishery management plans which are reviewed for approval and implementation by the Secretary. The Western Pacific Council has the responsibility to prepare fishery management plans for fishery resources in the EEZ of the Western Pacific Region.

The pelagic fisheries that occur in the EEZ and on the high seas of the Western Pacific Region have been managed under the Fishery Management Plan for the Pelagics Fisheries of the Western Pacific Region (FMP) and its amendments since 1986. Managed resources include both marketable (primarily billfish and tuna), and non-marketable (primarily sharks) species. Fisheries managed include pelagic longline, troll, handline, pole-and-line (bait boat), and charter boat fisheries. Management measures employed include gear restrictions, vessel size limitations, time and area closures, access limitations and other measures.

The largest fishery managed under the FMP is the Hawaii-based, limited-access pelagic longline fishery. Regulations imposed on this fishery in 2001 eliminated the “shallow set” component of this fishery that targeted swordfish. The remaining component of this fishery is a “deep set” tuna-targeting fishery. On August 31, 2003, the Memorandum Opinion issued in Hawaii Longline Assoc. v. NMFS (D. D.C., Civ No. 01-765), invalidated the June 12, 2002 (67 FR 40232) rules as well as the November 15, 2002, Biological Opinion for Pelagic Fisheries of the Western Pacific and the associated incidental take statement. On October 6, 2003, the Court stayed the August 31, 2003 Order, and reinstated the regulations and BiOp until April 1, 2004 (D.D.C. Civ No. 01-0765).

The October 17, 2003, NOI (68 FR. 59771) highlighted a number of issues concerning pelagic fisheries management in the Western Pacific Region. Particular issues mentioned included pelagic longline fisheries interactions with protected species, billfish-related issues, fish aggregation devices, and an emerging industrial-scale squid fishery. However, as a result of Court orders affecting management of the fishery, the Council and NMFS are considering management measures and regulations that must be in place by April 1, 2004.

Consequently, two SEISs, both supplementing the March 30, 2001 Final EIS on the Fishery Management Plan for Pelagic Fisheries of the Western Pacific Region, will be developed. The SEIS being developed under alternative procedures will address the Hawaii-based longline fishery and it's potential impact on endangered and threatened sea turtle populations. The other issues mentioned in the October 17, 2003, NOI, such as seabird interactions, billfish-related issues, fish aggregation devices, and industrial-scale squid fishing, will be addressed in a separate SEIS prepared in accord with standard NEPA procedures.

Without compressing the schedule, the agency is not able to comply with prescribed time periods required by NEPA. Specifically, based on a schedule accommodating all regulatory requirements, the agency is not able to provide the full public comment period of 45 days for a draft SEIS (40 CFR 1506.10(2)(d)), or the full review period for the final SEIS prior to the agency decision (40 CFR 1506.10(b)(1-2)).

Consequently, NMFS proposed alternative procedures to CEQ. As a matter of practice, the CEQ looks at three factors in the context of requests for alternative procedures for a SEIS(s): (a) Whether the agency can show that it faces extremely difficult timing considerations that it could not have reasonably foreseen; (b) whether considerations of reflected national policy concerns outweigh any burden to the public caused by a deviation from the normal process; and (c) whether the agency is committed to providing effective alternative means for insuring public and agency review. NMFS satisfied the CEQ's criteria for alternative procedures and on November 20, 2003, the CEQ approved NMFS's request. The alternative procedures include that the standard 45-day public comment period for the SEIS will be shortened to 30 days, and the standard 30-day review period between the final SEIS and the agency's Record of Decision may be reduced by as much as 26 days.

As part of the alternative procedures for public input, the Council and NMFS have coordinated several opportunities for public involvement in the NEPA process. Examples include public scoping meetings conducted throughout the Western Pacific Region from October 21, 2003 through December 4, 2003. In addition, opportunities for public involvement and comment have been solicited at several meetings, including the 119th Council meeting, 120th Council meeting, the 121st Council meeting, and at a series of public meetings convened by the Council's Sea Turtle Conservation Special Advisory Committee.

The SEIS will analyze, among other things, additional alternatives that include an abolition or modification to the southern area closure; the restoration of the swordfish fishery at some reduced level; mitigation measures such as circle hooks and mackerel bait known to reduce interaction rates of sea turtles with longline gear; international conservation measures to increase sea turtle recruitment; and an analysis on the potential impact of such alternatives on the continued existence of endangered and threatened sea turtles.

Authority: 16 U.S.C. 1801 et seq.

Dated: November 26, 2003.
Bruce C. Morehead,
Acting Director, Office of Sustainable Fisheries, National Marine Fisheries Service.

[FR Doc. 03-30135 Filed 12-2-03; 8:45 am]

BILLING CODE 3510-22-S